DEPARTMENT OF TRANSPORTATION

Federal Aviation Administration

14 CFR Part 39

[Docket No. FAA-2009-0496; Directorate Identifier 2008-NM-139-AD]

RIN 2120-AA64

Airworthiness Directives; Fokker Model F.27 Mark 050 and F.28 Mark 0100 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

Several incidents have been reported where an electrical burning smell was noted in the cockpit, originating from the Electrical Power Centre. Troubleshooting revealed a partly molten terminal, which normally attaches a wire or bus bar to a stud of an Electrical Power Contactor, Part Number (P/N) SG02206. Furthermore, heat damage to the contactor stud itself was found. * * *

* * * * *

This condition, if not corrected, could lead to further cases of overheating of terminals and studs of Electrical Power Contactors P/N SG02206, possibly resulting in the loss of electrical power systems, electrical arcing and fire/smoke in the cockpit.

The proposed AD would require actions that are intended to address the unsafe condition described in the MCAI.

DATES: We must receive comments on this proposed AD by July 2, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For Fokker service information identified in this proposed AD, contact Fokker Services B.V., Technical Services Dept., P.O. Box 231, 2150 AE Nieuw-Vennep, the Netherlands; telephone +31 (0) 252-627-350; fax +31 (0) 252-627-211; e-mail technicalservices.fokkerservices@stork.com; Internet http://www.myfokkerfleet.com.

For Goodrich service information identified in this proposed AD, contact Goodrich Corporation, Power Systems, 1555 Corporate Woods Parkway, Uniontown, Ohio 44685-8799; telephone 330-487-2007; fax 330-487-1902; e-mail twinsburg.techpubs@goodrich.com; Internet http://www.goodrich.com/TechPubs.

You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2009-0496; Directorate Identifier 2008-NM-139-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2008-0091, dated May 13, 2008 (referred to after this as “the MCAI”), to correct an unsafe condition for the specified products. The MCAI states:

Several incidents have been reported where an electrical burning smell was noted in the cockpit, originating from the Electrical Power Centre. Troubleshooting revealed a partly molten terminal, which normally attaches a wire or bus bar to a stud of an Electrical Power Contactor, Part Number (P/N) SG02206. Furthermore, heat damage to the contactor stud itself was found. Material investigation revealed that the terminal, which was attached to the stud, was not properly torque tightened when the incident occurred. Loss of torque is considered to have occurred during operation, for reasons not fully understood. Further loosening may have taken place in-service under influence of vibration. As a result, poor contact caused electrical arcing during which extremely high temperatures were developed, leading to partial melting of the terminal.

Investigation of some other burned contactors revealed evidence (flat spring lock washer) of a fully torqued terminal/stud connection when the overheating occurred. The exact cause for the increase in temperature in the contactor and the terminal/stud could not be determined. However, it could not be excluded that an increase of the temperature inside the contactor could lead to reduction of the reliability of the contactor stud/terminal connection due to loss of lock washer tension. The affected Electrical Power Contactor is used on several locations in the electrical power system, i.e. Generator Line Contactor (GLC), Bus Tie Contactor (BTC), Auxiliary Power Contactor (APC) and External Power Contactor (EPC).

This condition, if not corrected, could lead to further cases of overheating of terminals and studs of Electrical Power Contactors P/N SG02206, possibly resulting in the loss of electrical power systems, electrical arcing and fire/smoke in the cockpit.

For the reasons described above, this EASA Airworthiness Directive (AD) requires the replacement of the current nut and spring washer of the standard contactor P/N SG02206 with a new self-locking nut.

You may obtain further information by examining the MCAI in the AD docket.

Relevant Service Information

Goodrich Power Systems has issued Service Bulletin SG02206-24-01, dated March 4, 2008. Fokker Services B.V. has issued the service bulletins identified in the following table.

Table—Service Information
Service bulletin | Date
Fokker Service Bulletin SBF50-24-030, including the drawings identified in the subsequent table, “Table—Drawings Included in Fokker Service Bulletin SBF50-24-30” | November 6, 2003.
Fokker Service Bulletin SBF50-24-031 | January 29, 2008.
Fokker Service Bulletin SBF100-24-037, including Manual Change Notification—Maintenance Documentation MCNM F100-076, dated October 2, 2003, and including the drawings identified in the subsequent table, “Table—Drawings Included in Fokker Service Bulletin SBF100-24-037” | October 2, 2003.
Fokker Service Bulletin SBF100-24-041 | January 29, 2008.

Table—Drawings Included in Fokker Service Bulletin SBF50-24-030
Fokker drawing— | Sheet— | Issue— | Dated—
W7980-236 | 02 | H | August 1, 2003.
W7980-253 | 40 | BK | September 17, 2003.
W7980-253 | 41 | BK | September 17, 2003.
W7980-253 | 42 | BK | September 17, 2003.
W7980-253 | 43 | BK | September 17, 2003.
W7980-253 | 44 | BL | September 17, 2003.
W7980-253 | 45 | BK | September 17, 2003.
W7980-253 | 46 | BL | September 17, 2003.
W7980-253 | 47 | BK | September 17, 2003.
W7980-253 | 48 | BK | September 17, 2003.
W7980-253 | 49 | BL | September 17, 2003.
W7980-253 | 50 | BL | September 17, 2003.
W7980-253 | 51 | BL | September 17, 2003.
W7980-253 | 52 | BL | September 17, 2003.
W7980-253 | 53 | BL | September 17, 2003.
W7980-253 | 54 | BK | September 17, 2003.
W7980-253 | 55 | BL | September 17, 2003.
W7980-253 | 56 | BL | September 17, 2003.
W7980-253 | 57 | BK | September 17, 2003.
W7980-253 | 58 | BL | September 17, 2003.
W7980-253 | 59 | BK | September 17, 2003.
W7980-253 | 60 | BK | September 24, 2003.
W7980-253 | 61 | BK | September 24, 2003.
W7980-253 | 62 | BK | September 24, 2003.
W7980-253 | 63 | BL | September 24, 2003.
W7980-253 | 64 | BK | September 24, 2003.
W7980-253 | 65 | BL | September 24, 2003.
W7980-253 | 66 | BK | September 24, 2003.

Table—Drawings Included in Fokker Service Bulletin SBF100-24-037
Fokker drawing— | Sheet— | Issue— | Dated—
W43255 | 01 | A | July 30, 2003.
W43255 | 02 | Original | July 30, 2003.
W43255 | 03 | A | August 4, 2003.
W43255 | 04 | A | July 30, 2003.
W43255 | 05 | Original | July 30, 2003.
W43255 | 06 | A | July 30, 2003.
W43255 | 07 | A | August 4, 2003.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 5 products of U.S. registry. We also estimate that it would take about 8 work-hours per product to comply with the basic requirements of this proposed AD. The average labor rate is $80 per work-hour. Required parts would cost about $5,715 per product. Where the service information lists required parts costs that are covered under warranty, we have assumed that there will be no charge for these costs. As we do not control warranty coverage for affected parties, some parties may incur costs higher than estimated here. Based on these figures, we estimate the cost of the proposed AD on U.S. operators to be $31,775, or $6,355 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

39.13 [Amended]

2. The FAA amends § 39.13 by adding the following new AD:

Fokker Services B.V.: Docket No. FAA-2009-0496; Directorate Identifier 2008-NM-139-AD.

Comments Due Date

(a) We must receive comments by July 2, 2009.

Affected ADs

(b) None.

Applicability

(c) This AD applies to Fokker Model F.27 Mark 050 and F.28 Mark 0100 airplanes, certificated in any category, all serial numbers.

Subject

(d) Air Transport Association (ATA) of America Code 24: Electrical power.

Reason

(e) The mandatory continuing airworthiness information (MCAI) states:

Several incidents have been reported where an electrical burning smell was noted in the cockpit, originating from the Electrical Power Centre. Troubleshooting revealed a partly molten terminal, which normally attaches a wire or bus bar to a stud of an Electrical Power Contactor, Part Number (P/N) SG02206. Furthermore, heat damage to the contactor stud itself was found. Material investigation revealed that the terminal, which was attached to the stud, was not properly torque tightened when the incident occurred. Loss of torque is considered to have occurred during operation, for reasons not fully understood. Further loosening may have taken place in-service under influence of vibration. As a result, poor contact caused electrical arcing during which extremely high temperatures were developed, leading to partial melting of the terminal.

Investigation of some other burned contactors revealed evidence (flat spring lock washer) of a fully torqued terminal/stud connection when the overheating occurred. The exact cause for the increase in temperature in the contactor and the terminal/stud could not be determined. However, it could not be excluded that an increase of the temperature inside the contactor could lead to reduction of the reliability of the contactor stud/terminal connection due to loss of lock washer tension. The affected Electrical Power Contactor is used on several locations in the electrical power system, i.e. Generator Line Contactor (GLC), Bus Tie Contactor (BTC), Auxiliary Power Contactor (APC) and External Power Contactor (EPC).

This condition, if not corrected, could lead to further cases of overheating of terminals and studs of Electrical Power Contactors P/N SG02206, possibly resulting in the loss of electrical power systems, electrical arcing and fire/smoke in the cockpit.

For the reasons described above, this EASA Airworthiness Directive (AD) requires the replacement of the current nut and spring washer of the standard contactor P/N SG02206 with a new self-locking nut.

Actions and Compliance

(f) Unless already done, do the following actions:

(1) Except as provided by paragraphs (f)(2) and (f)(3) of this AD: Within 36 months after the effective date of this AD, remove the standard nuts and lock washers from the contactors having part number (P/N) SG02206, install new self-locking nuts, and perform the applicable tests on the Alternating Current Bus Transfer system, in accordance with the Accomplishment Instructions of Fokker Service Bulletin SBF100-24-041 or SBF50-24-031, both dated January 29, 2008, as applicable. If any test fails, before further flight, repair using a method approved by either the Manager, International Branch, ANM-116, Transport Airplane Directorate, FAA; or EASA (or its delegated agent).

(2) Accomplishment of paragraph (f)(1) of this AD is not required for Model F.28 Mark 0100 airplanes that have been modified in service in accordance with Fokker Service Bulletin SBF100-24-037, dated October 2, 2003. Accomplishment of Fokker Service Bulletin SBF100-24-037, dated October 2, 2003, within the compliance time specified in paragraph (f)(1) of this AD is considered an acceptable method of compliance with the requirements of paragraph (f)(1) of this AD.

(3) Accomplishment of paragraph (f)(1) of this AD is not required for Model F.27 Mark 050 airplanes that have been modified during production to incorporate Fokker Engineering Change Record (ECR) 51780, or for airplanes that have been modified in service in accordance with Fokker Service Bulletin SBF50-24-030, dated November 6, 2003. Accomplishment of Fokker Service Bulletin SBF50-24-030, dated November 6, 2003, within the compliance time specified in paragraph (f)(1) of this AD is considered an acceptable method of compliance with the requirements of paragraph (f)(1) of this AD.

(4) As of 36 months after the effective date of this AD, no person may install a contactor having P/N SG02206 on any airplane unless it has been modified in accordance with Goodrich Power Systems Service Bulletin SG02206-24-01, dated March 4, 2008.

FAA AD Differences

Note 1: This AD differs from the MCAI and/or service information as follows: The MCAI does not include a corrective action for airplanes on which the test required by paragraph (f)(1) of this AD fails. This AD requires the corrective action specified in paragraph (f)(1) of this AD.

Other FAA AD Provisions

(g) The following provisions also apply to this AD:

(1) Alternative Methods of Compliance (AMOCs): The Manager, International Branch, FAA, has the authority to approve AMOCs for this AD, if requested using the procedures found in 14 CFR 39.19. Send information to Attn: Tom Rodriguez, Aerospace Engineer, International Branch, ANM-116, Transport Airplane Directorate, FAA, 1601 Lind Avenue SW., Renton, Washington 98057-3356; telephone (425) 227-1137; fax (425) 227-1149. Before using any approved AMOC on any airplane to which the AMOC applies, notify your appropriate principal maintenance inspector (PMI) or principal avionics inspector (PAI), as appropriate, or lacking a principal inspector, your local flight Standards District Office.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2008-0091, dated May 13, 2008, and the service information listed in Tables 1, 2, and 3 of this AD for related information.

Table 1—Service Information
Service bulletin | Date
Fokker Service Bulletin SBF50-24-030, including the drawings identified in Table 2 of this AD | November 6, 2003.
Fokker Service Bulletin SBF50-24-031 | January 29, 2008.
Fokker Service Bulletin SBF100-24-037, including Manual Change Notification—Maintenance Documentation MCNM F100-076, dated October 2, 2003, and including the drawings identified in Table 3 of this AD | October 2, 2003.
Fokker Service Bulletin SBF100-24-041 | January 29, 2008.
Goodrich Power Systems Service Bulletin SG02206-24-01 | March 4, 2008.

Table 2—Drawings Included in Fokker Service Bulletin SBF50-24-030
Fokker drawing— | Sheet— | Issue— | Dated—
W7980-236 | 02 | H | August 1, 2003.
W7980-253 | 40 | BK | September 17, 2003.
W7980-253 | 41 | BK | September 17, 2003.
W7980-253 | 42 | BK | September 17, 2003.
W7980-253 | 43 | BK | September 17, 2003.
W7980-253 | 44 | BL | September 17, 2003.
W7980-253 | 45 | BK | September 17, 2003.
W7980-253 | 46 | BL | September 17, 2003.
W7980-253 | 47 | BK | September 17, 2003.
W7980-253 | 48 | BK | September 17, 2003.
W7980-253 | 49 | BL | September 17, 2003.
W7980-253 | 50 | BL | September 17, 2003.
W7980-253 | 51 | BL | September 17, 2003.
W7980-253 | 52 | BL | September 17, 2003.
W7980-253 | 53 | BL | September 17, 2003.
W7980-253 | 54 | BK | September 17, 2003.
W7980-253 | 55 | BL | September 17, 2003.
W7980-253 | 56 | BL | September 17, 2003.
W7980-253 | 57 | BK | September 17, 2003.
W7980-253 | 58 | BL | September 17, 2003.
W7980-253 | 59 | BK | September 17, 2003.
W7980-253 | 60 | BK | September 24, 2003.
W7980-253 | 61 | BK | September 24, 2003.
W7980-253 | 62 | BK | September 24, 2003.
W7980-253 | 63 | BL | September 24, 2003.
W7980-253 | 64 | BK | September 24, 2003.
W7980-253 | 65 | BL | September 24, 2003.
W7980-253 | 66 | BK | September 24, 2003.

Table 3—Drawings Included in Fokker Service Bulletin SBF100-24-037
Fokker drawing— | Sheet— | Issue— | Dated—
W43255 | 01 | A | July 30, 2003.
W43255 | 02 | Original | July 30, 2003.
W43255 | 03 | A | August 4, 2003.
W43255 | 04 | A | July 30, 2003.
W43255 | 05 | Original | July 30, 2003.
W43255 | 06 | A | July 30, 2003.
W43255 | 07 | A | August 4, 2003.

Issued in Renton, Washington, on May 20, 2009.
Stephen P. Boyd,
Acting Manager, Transport Airplane Directorate, Aircraft Certification Service.

[FR Doc. E9-12803 Filed 6-1-09; 8:45 am]

BILLING CODE 4910-13-P